DEPARTMENT OF COMMERCE

National Oceanic and Atmospheric Administration

RIN 0648-XE536

Marine Fisheries Advisory Committee Meeting

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and provide advice on issues outlined under SUPPLEMENTARY INFORMATION below.

DATES: The meeting will be held April 25-27, 2016, from 8:30 a.m. to 5 p.m.

ADDRESSES: The meeting will be held at the Hotel Monaco Portland, 506 SW. Washington Street, Portland, OR 97204; 503-222-0001.

FOR FURTHER INFORMATION CONTACT: Jennifer Lukens, MAFAC Executive Director; (301) 427-8004; email: Jennifer.Lukens@noaa.gov.

SUPPLEMENTARY INFORMATION: As required by section 10(a)(2) of the Federal Advisory Committee Act, 5 U.S.C. App. 2, notice is hereby given of a meeting of MAFAC. The MAFAC was established by the Secretary of Commerce (Secretary), and, since 1971, advises the Secretary on all living marine resource matters that are the responsibility of the Department of Commerce. The complete charter and summaries of prior meetings are located online at http://www.nmfs.noaa.gov/ocs/mafac/.

Matters To Be Considered

This meeting time and agenda are subject to change.

The meeting is convened to hear presentations and discuss policies and guidance on the following topics: Proposed Columbia Basin Partnership Task Force, hatchery genetic management plans, draft National Bycatch Reduction Strategy, fishing community and coastal resilience, and strategic planning. The meeting will include updates on electronic monitoring on the west coast, recreational fishing regional implementation plans, and the budget outlook for FY2016-2017; discussion of various MAFAC administrative and organizational matters; and may include meetings of standing subcommittees and working groups.

Special Accommodations

The meeting is physically accessible to people with disabilities. Requests for sign language interpretation or other auxiliary aids should be directed to Heidi Lovett; 301-427-8034 by April 15, 2016.

Dated: April 5, 2016.
Samuel D. Rauch III,
Deputy Assistant Administrator for Regulatory Programs, National Marine Fisheries Service.

[FR Doc. 2016-08221 Filed 4-8-16; 8:45 am]

BILLING CODE 3510-22-P